DEPARTMENT OF TRANSPORTATION

Federal Aviation Administration

Thirteenth Meeting: EUROCAE WG-72: RTCA Special Committee 216: Aeronautical Systems Security (Joint Meeting)

AGENCY: Federal Aviation Administration (FAA), DOT.

ACTION: Notice of EUROCAE WG-72: RTCA Special Committee 216: Aeronautical Systems Security (Joint Meeting).

SUMMARY: The FAA is issuing this notice to advise the public of a meeting of EUROCAE WG-72: RTCA Special Committee 216: Aeronautical Systems Security (Joint Meeting).

DATES: The meeting will be held April 20-23, 2010 starting at 9 a.m. on the first day and ending by 13:00 on the last day.

ADDRESSES: The meeting will be held at Malakoff (France), 102 rue Etienne Dolet—92240 Malakoff (4th Floor), hosted by EUROCAE.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a EUROCAE WG-72: RTCA Special Committee 216: Aeronautical Systems Security (Joint Meeting) meeting. The meeting is expected to start at 9 on the first day and to finish by 17:00 each day. It will finish at the latest by 13:00 on the last day.

The main purpose of the meeting is to determine potential joint Subgroup work based on the new SC-216 TOR, develop agreement between both groups on the roadmap to potentially jointly publish documents, continue the specification work and strengthening of links to the Civil Aviation Authorities.

Please inform jean-paul.moreaux@airbus.com and samira.bezza@eurocae.net of your intention to attend the meeting.

The agenda will include:

Day 1

• 09h00 to 09h20: Introduction/review of the previous MoM/Report about publications/Approval of the meeting agenda.

• 09h20 to 09h40: WG72 and Group (ED20x) activities status discussion of implications on joint work.

• 09h40 to 10h00: SC-216 and Subgroup activities status and discussion of implications on joint work.

• 10h00 to 10h45: Mapping of SC216 SG's to WG72 ED 20x Documents:

• Discuss joint SG work plan and schedule based on document(s) chart.

• 10h45 to 11h00: Break.

• 11h00 to 11h45: Develop agreement on:

• Either continuing as per previous mode of cooperation.

• Or create a firm joint work plan for mutual document development.

• Publication Plan: Roadmap and Document layout, discuss implications.

• 11h45 to 12h00: Discussion options to strengthen ties with CAA's (EASA and others).

• Discuss Response to White Paper: Vision to Lawmakers.

• 12h00 to 13h15: Lunch Break.

• 13h15 to 14h30: Status of ED201, ED202/ED203, ED204 or equivalent documents.

• 14h15 to 17h00: Split-up sessions.

• ED201: Include transversal topics extracted from other parts; coordinate details with other parts.

• ED202/203-SG2: Discussion of differences with SC216/SG2; identify specific terms and glossary concerns; establish common basis for collaboration or joint work.

• ED204-SG4: Review the SOW of both groups, determine if full or partly joint work with one resulting document is possible, identify parts, that can't be joint.

Days 2 and 3

• 09h00 to 17h00: Split-up sessions.

• Continuation of work for all documents.

Day 4

• 09h00 to 13h00: Plenary Session:

• 09:00 to 09:20: Review Status of ED201 session work—What has been added/modified? Which elements will be dealt with in 2010, which in a later issue? What is the status of the EFB analysis?

• 09:20 to 10:00: Review Status of ED202/ED203-SG2 session work—What is the status of the documents? Is it reasonable to expect termination of ED202/DO-TBD work in 2010?

• 10:00 to 10:30: Review Status of ED204-SG4 session work—Is the target audience clear and limited, for which the document is to be established? Are the expectations of the audience well understood? How will the work progress, fully joint, partly joint, coordinated w/two separate documents?

• 10:30 to 11:00: Discussion of Glossary: Content and Publication (separate in ED210 or integrated).

• 11:00 to 11:15: Break.

• 11:15 to 11:30: Discuss collaboration and associated topics with other organisations (Arinc, DSWG, ICAO, etc.).

• 11:30 to 12:00: Summarize the official Eurocae and RTCA release/review processes in relation to the planned releases for this year/early next—verify publication schedule.

• 12:00 to 12:30: Future meeting dates and locations; Expertise to be included; Action Item review.

• 12:30 to 12:45: Wrap-up of Meeting, Agreement on Conclusions and Main Events, Main messages to be disseminated.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC on March 29, 2010.
Meredith Gibbs,
RTCA Advisory Committee.

[FR Doc. 2010-7546 Filed 4-1-10; 8:45 am]

BILLING CODE 4910-13-P